DEPARTMENT OF ENERGY

Federal Energy Regulatory Commission

Combined Notice of Filings

Take notice that the Commission has received the following Natural Gas Pipeline Rate and Refund Report filings:

Filings Instituting Proceedings

Docket Numbers: CP25-88-000.

Applicants: Delta North Louisiana Gas Company, LLC.

Description: Delta North Louisiana Gas Company, LLC submits Abbreviated Application for a Blanket Certificate of Limited Jurisdiction under Section 284.224.

Filed Date: 2/27/25.

Accession Number: 20250227-5148.

Comment Date: 5 p.m. ET 3/20/25.

Docket Numbers: CP25-92-000.

Applicants: Arkansas Oklahoma Gas Corporation.

Description: Arkansas Oklahoma Gas Corporation submits abbreviated Application for Abandonment Permission or, in the alternative, Vacatur of Limited Jurisdiction, Order No. 63 Blanket Transportation Certificate.

Filed Date: 2/27/25.

Accession Number: 20250227-5322.

Comment Date: 5 p.m. ET 3/20/25.

Docket Numbers: RP25-613-000.

Applicants: Rockies Express Pipeline LLC.

Description: Compliance filing: REX 2025-02-27 Fuel and L&U Reimbursement Percentages and Power Cost Charges to be effective N/A.

Filed Date: 2/27/25.

Accession Number: 20250227-5190.

Comment Date: 5 p.m. ET 3/11/25.

Docket Numbers: RP25-614-000.

Applicants: Tallgrass Interstate Gas Transmission, LLC.

Description: 4(d) Rate Filing: TIGT 2025-02-27 Fuel and L&U Reimbursement and Power Cost Tracker to be effective 4/1/2025.

Filed Date: 2/27/25.

Accession Number: 20250227-5192.

Comment Date: 5 p.m. ET 3/11/25.

Docket Numbers: RP25-615-000.

Applicants: Texas Eastern Transmission, LP.

Description: 4(d) Rate Filing: Negotiated Rates—EQT 911229 eff 3-1-25 to be effective 3/1/2025.

Filed Date: 2/27/25.

Accession Number: 20250227-5203.

Comment Date: 5 p.m. ET 3/11/25.

Docket Numbers: RP25-616-000.

Applicants: Wyoming Interstate Company, L.L.C.

Description: 4(d) Rate Filing: Negotiated Rate Agreement Update (Hartree and Citadel) to be effective 4/1/2025.

Filed Date: 2/27/25.

Accession Number: 20250227-5229.

Comment Date: 5 p.m. ET 3/11/25.

Docket Numbers: RP25-617-000.

Applicants: Colorado Interstate Gas Company, L.L.C.

Description: 4(d) Rate Filing: CIG Qtly LUF and Semi-Annual Fuel Filing Feb 2025 to be effective 4/1/2025.

Filed Date: 2/27/25.

Accession Number: 20250227-5230.

Comment Date: 5 p.m. ET 3/11/25.

Docket Numbers: RP25-618-000.

Applicants: Northwest Pipeline LLC.

Description: 4(d) Rate Filing: North Seattle and South Seattle Annual Charge Update Filing 2025 to be effective 4/1/2025.

Filed Date: 2/27/25.

Accession Number: 20250227-5238.

Comment Date: 5 p.m. ET 3/11/25.

Docket Numbers: RP25-619-000.

Applicants: Viking Gas Transmission Company.

Description: 4(d) Rate Filing: Annual Load Management Cost Reconciliation Adjustment—2025 Rate to be effective 4/1/2025.

Filed Date: 2/28/25.

Accession Number: 20250228-5000.

Comment Date: 5 p.m. ET 3/12/25.

Docket Numbers: RP25-620-000.

Applicants: Viking Gas Transmission Company.

Description: 4(d) Rate Filing: Semi-Annual Fuel and Loss Retention Adjustment—Spring 2025 Rate to be effective 4/1/2025.

Filed Date: 2/28/25.

Accession Number: 20250228-5002.

Comment Date: 5 p.m. ET 3/12/25.

Docket Numbers: RP25-621-000.

Applicants: Viking Gas Transmission Company.

Description: 4(d) Rate Filing: Electric Power Cost Recovery Adjustment—2025 Rate to be effective 4/1/2025.

Filed Date: 2/28/25.

Accession Number: 20250228-5003.

Comment Date: 5 p.m. ET 3/12/25.

Docket Numbers: RP25-622-000.

Applicants: Mountain Valley Pipeline, LLC.

Description: Compliance filing: MVP Annual Transportation Retainage Report to be effective N/A.

Filed Date: 2/28/25.

Accession Number: 20250228-5006.

Comment Date: 5 p.m. ET 3/12/25.

Docket Numbers: RP25-623-000.

Applicants: Mountain Valley Pipeline, LLC.

Description: 4(d) Rate Filing: Permanent Capacity Release—3/1/2025 to be effective 3/1/2025.

Filed Date: 2/28/25.

Accession Number: 20250228-5007.

Comment Date: 5 p.m. ET 3/12/25.

Docket Numbers: RP25-624-000.

Applicants: Equitrans, L.P.

Description: 4(d) Rate Filing: Remove expired negotiated rate agreements—4/1/2025 to be effective 4/1/2025.

Filed Date: 2/28/25.

Accession Number: 20250228-5008.

Comment Date: 5 p.m. ET 3/12/25.

Docket Numbers: RP25-625-000.

Applicants: Mountain Valley Pipeline, LLC.

Description: 4(d) Rate Filing: Negotiated Rate Agreement—3/1/2025 to be effective 3/1/2025.

Filed Date: 2/28/25.

Accession Number: 20250228-5009.

Comment Date: 5 p.m. ET 3/12/25.

Docket Numbers: RP25-626-000.

Applicants: WBI Energy Transmission, Inc.

Description: 4(d) Rate Filing: 2025 Annual Fuel & Electric Power Reimbursement Adjustment to be effective 4/1/2025.

Filed Date: 2/28/25.

Accession Number: 20250228-5042.

Comment Date: 5 p.m. ET 3/12/25.

Docket Numbers: RP25-627-000.

Applicants: Columbia Gas Transmission, LLC.

Description: 4(d) Rate Filing: RAM 2025 to be effective 4/1/2025.

Filed Date: 2/28/25.

Accession Number: 20250228-5057.

Comment Date: 5 p.m. ET 3/12/25.

Docket Numbers: RP25-628-000.

Applicants: Columbia Gulf Transmission, LLC.

Description: 4(d) Rate Filing: TRA 2025 to be effective 4/1/2025.

Filed Date: 2/28/25.

Accession Number: 20250228-5059.

Comment Date: 5 p.m. ET 3/12/25.

Docket Numbers: RP25-629-000.

Applicants: Columbia Gas Transmission, LLC.

Description: 4(d) Rate Filing: EPCA 2025 to be effective 4/1/2025.

Filed Date: 2/28/25.

Accession Number: 20250228-5066.

Comment Date: 5 p.m. ET 3/12/25.

Docket Numbers: RP25-630-000.

Applicants: Columbia Gas Transmission, LLC.

Description: 4(d) Rate Filing: TCRA 2025 to be effective 4/1/2025.

Filed Date: 2/28/25.

Accession Number: 20250228-5069.

Comment Date: 5 p.m. ET 3/12/25.

Docket Numbers: RP25-631-000.

Applicants: Florida Gas Transmission Company, LLC.

Description: 4(d) Rate Filing: Fuel Filing on 2-28-25 to be effective 4/1/2025.

Filed Date: 2/28/25.

Accession Number: 20250228-5074.

Comment Date: 5 p.m. ET 3/12/25.

Docket Numbers: RP25-632-000.

Applicants: Northern Natural Gas Company.

Description: 4(d) Rate Filing: 20250228 Update Pro Forma Service Agreements to be effective 4/1/2025.

Filed Date: 2/28/25.

Accession Number: 20250228-5077.

Comment Date: 5 p.m. ET 3/12/25.

Docket Numbers: RP25-633-000.

Applicants: Panhandle Eastern Pipe Line Company, LP.

Description: 4(d) Rate Filing: Fuel Filing on 2-28-25 to be effective 4/1/2025.

Filed Date: 2/28/25.

Accession Number: 20250228-5084.

Comment Date: 5 p.m. ET 3/12/25.

Docket Numbers: RP25-634-000.

Applicants: KPC Pipeline, LLC.

Description: 4(d) Rate Filing: Fuel Reimbursement Adjustment to be effective 4/1/2025.

Filed Date: 2/28/25.

Accession Number: 20250228-5088.

Comment Date: 5 p.m. ET 3/12/25.

Docket Numbers: RP25-635-000.

Applicants: Trunkline Gas Company, LLC.

Description: 4(d) Rate Filing: Fuel Filing on 2-28-25 to be effective 4/1/2025.

Filed Date: 2/28/25.

Accession Number: 20250228-5090.

Comment Date: 5 p.m. ET 3/12/25.

Docket Numbers: RP25-636-000.

Applicants: Rover Pipeline LLC.

Description: 4(d) Rate Filing: Fuel Filing on 2-28-25 to be effective 4/1/2025.

Filed Date: 2/28/25.

Accession Number: 20250228-5092.

Comment Date: 5 p.m. ET 3/12/25.

Docket Numbers: RP25-637-000.

Applicants: TransCameron Pipeline, LLC.

Description: 4(d) Rate Filing: Normal filing 2025 Annual Fuel Reimbursement filing to be effective 4/1/2025.

Filed Date: 2/28/25.

Accession Number: 20250228-5102.

Comment Date: 5 p.m. ET 3/12/25.

Docket Numbers: RP25-638-000.

Applicants: Venture Global Gator Express, LLC.

Description: 4(d) Rate Filing: Annual FL U Rates 2025 to be effective 4/1/2025.

Filed Date: 2/28/25.

Accession Number: 20250228-5105.

Comment Date: 5 p.m. ET 3/12/25.

Docket Numbers: RP25-639-000.

Applicants: Texas Eastern Transmission, LP.

Description: 4(d) Rate Filing: Negotiated Rates—Con Ed 910950 Releases eff 3-1-25 to be effective 3/1/2025.

Filed Date: 2/28/25.

Accession Number: 20250228-5108.

Comment Date: 5 p.m. ET 3/12/25.

Docket Numbers: RP25-640-000.

Applicants: NEXUS Gas Transmission, LLC.

Description: 4(d) Rate Filing: 2025 NEXUS ASA Filing to be effective 4/1/2025.

Filed Date: 2/28/25.

Accession Number: 20250228-5115.

Comment Date: 5 p.m. ET 3/12/25.

Docket Numbers: RP25-641-000.

Applicants: Columbia Gas Transmission, LLC.

Description: 4(d) Rate Filing: COR Non-Conforming Addendums 309654 & 309655 to be effective 4/1/2025.

Filed Date: 2/28/25.

Accession Number: 20250228-5117.

Comment Date: 5 p.m. ET 3/12/25.

Docket Numbers: RP25-642-000.

Applicants: Northern Natural Gas Company.

Description: 4(d) Rate Filing: 20250228 Negotiated Rates to be effective 3/1/2025.

Filed Date: 2/28/25.

Accession Number: 20250228-5123.

Comment Date: 5 p.m. ET 3/12/25.

Docket Numbers: RP25-643-000.

Applicants: Algonquin Gas Transmission, LLC.

Description: 4(d) Rate Filing: Negotiated Rates—Various Releases eff 3-1-25 to be effective 3/1/2025.

Filed Date: 2/28/25.

Accession Number: 20250228-5124.

Comment Date: 5 p.m. ET 3/12/25.

Docket Numbers: RP25-644-000.

Applicants: Tennessee Gas Pipeline Company, L.L.C.

Description: 4(d) Rate Filing: TGP 2025 Annual Fuel Tracker Filing to be effective 4/1/2025.

Filed Date: 2/28/25.

Accession Number: 20250228-5128.

Comment Date: 5 p.m. ET 3/12/25.

Docket Numbers: RP25-645-000.

Applicants: ConocoPhillips Company, Marathon Oil Company, Shell Offshore Inc.

Description: Joint Petition for Limited Waiver of Capacity Release Regulations, et al. of ConocoPhillips Company et al.

Filed Date: 2/28/25.

Accession Number: 20250228-5131.

Comment Date: 5 p.m. ET 3/12/25.

Docket Numbers: RP25-646-000.

Applicants: Eastern Gas Transmission and Storage, Inc.

Description: 4(d) Rate Filing: EGTS—February 28, 2025 Nonconforming Service Agreements to be effective 4/1/2025.

Filed Date: 2/28/25.

Accession Number: 20250228-5130.

Comment Date: 5 p.m. ET 3/12/25.

Docket Numbers: RP25-647-000.

Applicants: Northwest Pipeline LLC.

Description: 4(d) Rate Filing: 2025 Summer Fuel Filing to be effective 4/1/2025.

Filed Date: 2/28/25.

Accession Number: 20250228-5132.

Comment Date: 5 p.m. ET 3/12/25.

Docket Numbers: RP25-648-000.

Applicants: Enable Mississippi River Transmission, LLC.

Description: 4(d) Rate Filing: Filed Agreements Housekeeping Filing to be effective 4/1/2025.

Filed Date: 2/28/25.

Accession Number: 20250228-5141.

Comment Date: 5 p.m. ET 3/12/25.

Docket Numbers: RP25-649-000.

Applicants: Eastern Gas Transmission and Storage, Inc.

Description: 4(d) Rate Filing: EGTS—Conversion of Rate Schedule X-78 to be effective 4/1/2025.

Filed Date: 2/28/25.

Accession Number: 20250228-5145.

Comment Date: 5 p.m. ET 3/12/25.

Docket Numbers: RP25-650-000.

Applicants: Enable Mississippi River Transmission, LLC.

Description: 4(d) Rate Filing: 2-28-25 Housekeeping Filing to be effective 4/1/2025.

Filed Date: 2/28/25.

Accession Number: 20250228-5147.

Comment Date: 5 p.m. ET 3/12/25.

Docket Numbers: RP25-651-000.

Applicants: Cheyenne Plains Gas Pipeline Company, L.L.C.

Description: 4(d) Rate Filing: FLU_EPC Charge Adjustment_OPS Report and Annual Adjustment Date Filing Feb 2025 to be effective 4/1/2025.

Filed Date: 2/28/25.

Accession Number: 20250228-5150.

Comment Date: 5 p.m. ET 3/12/25.

Docket Numbers: RP25-652-000.

Applicants: Transcontinental Gas Pipe Line Company, LLC.

Description: 4(d) Rate Filing: Initial Rate Filing—Southeast Energy Connector to be effective 4/1/2025.

Filed Date: 2/28/25.

Accession Number: 20250228-5153.

Comment Date: 5 p.m. ET 3/12/25.

Docket Numbers: RP25-653-000.

Applicants: Crossroads Pipeline Company LLC.

Description: 4(d) Rate Filing: TRA 2025 to be effective 4/1/2025.

Filed Date: 2/28/25.

Accession Number: 20250228-5159.

Comment Date: 5 p.m. ET 3/12/25.

Docket Numbers: RP25-654-000.

Applicants: Transcontinental Gas Pipe Line Company, LLC.

Description: 4(d) Rate Filing: Initial Rate Filing—Texas to Louisiana Energy Pathway to be effective 4/1/2025.

Filed Date: 2/28/25.

Accession Number: 20250228-5174.

Comment Date: 5 p.m. ET 3/12/25.

Docket Numbers: RP25-655-000.

Applicants: Cheniere Corpus Christi Pipeline, LP.

Description: 4(d) Rate Filing: Cheniere Corpus Christi Electric Power Cost Adjustment to be effective 4/1/2025.

Filed Date: 2/28/25.

Accession Number: 20250228-5180.

Comment Date: 5 p.m. ET 3/12/25.

Docket Numbers: RP25-656-000.

Applicants: Portland Natural Gas Transmission System.

Description: Annual Report of Operational Purchases and Sales of Portland Natural Gas Transmission System, L.P.

Filed Date: 2/28/25.

Accession Number: 20250228-5187.

Comment Date: 5 p.m. ET 3/12/25.

Docket Numbers: RP25-657-000.

Applicants: Sabine Pipe Line LLC.

Description: 4(d) Rate Filing: Annual Rate and Fuel Filing Normal April 2025 to be effective 4/1/2025.

Filed Date: 2/28/25.

Accession Number: 20250228-5188.

Comment Date: 5 p.m. ET 3/12/25.

Docket Numbers: RP25-658-000.

Applicants: ANR Pipeline Company.

Description: 4(d) Rate Filing: ANR 2025 Fuel and EPC Filing to be effective 4/1/2025.

Filed Date: 2/28/25.

Accession Number: 20250228-5190.

Comment Date: 5 p.m. ET 3/12/25.

Docket Numbers: RP25-659-000.

Applicants: Rockies Express Pipeline LLC.

Description: 4(d) Rate Filing: REX 2025-02-28 Negotiated Rate Agreements to be effective 3/1/2025.

Filed Date: 2/28/25.

Accession Number: 20250228-5197.

Comment Date: 5 p.m. ET 3/12/25.

Docket Numbers: RP25-660-000.

Applicants: Transcontinental Gas Pipe Line Company, LLC.

Description: 4(d) Rate Filing: 2025 Annual Fuel Tracker Filing to be effective 4/1/2025.

Filed Date: 2/28/25.

Accession Number: 20250228-5198.

Comment Date: 5 p.m. ET 3/12/25.

Docket Numbers: RP25-661-000.

Applicants: Rover Pipeline LLC.

Description: Compliance filing: Rover 2024 AMPS Filing to be effective N/A.

Filed Date: 2/28/25.

Accession Number: 20250228-5199.

Comment Date: 5 p.m. ET 3/12/25.

Docket Numbers: RP25-662-000.

Applicants: Rover Pipeline LLC.

Description: Compliance filing: Flow Through of Cash-Out Penalty Revenues filed on 2-28-25 to be effective N/A.

Filed Date: 2/28/25.

Accession Number: 20250228-5201.

Comment Date: 5 p.m. ET 3/12/25.

Docket Numbers: RP25-680-000.

Applicants: NEXUS Gas Transmission, LLC.

Description: 4(d) Rate Filing: Negotiated Rates—Various Releases—eff 3-1-2025 to be effective 3/1/2025.

Filed Date: 3/3/25.

Accession Number: 20250303-5043.

Comment Date: 5 p.m. ET 3/17/25.

Docket Numbers: RP25-682-000.

Applicants: Gulf South Pipeline Company, LLC.

Description: 4(d) Rate Filing: Cap Rel Neg Rate Agmt (Osaka 46428 to Uniper 58927) to be effective 3/1/2025.

Filed Date: 3/3/25.

Accession Number: 20250303-5106.

Comment Date: 5 p.m. ET 3/17/25.

Docket Numbers: RP25-683-000.

Applicants: High Island Offshore System, L.L.C.

Description: 4(d) Rate Filing: Storm Damage Surcharge 2025 to be effective 4/1/2025.

Filed Date: 3/3/25.

Accession Number: 20250303-5108.

Comment Date: 5 p.m. ET 3/17/25.

Any person desiring to intervene, to protest, or to answer a complaint in any of the above proceedings must file in accordance with Rules 211, 214, or 206 of the Commission's Regulations (18 CFR 385.211, 385.214, or 385.206) on or before 5 p.m. Eastern time on the specified comment date. Protests may be considered, but intervention is necessary to become a party to the proceeding.

Filings in Existing Proceedings

Docket Numbers: RP24-1035-003.

Applicants: Transcontinental Gas Pipe Line Company, LLC.

Description: Compliance filing: Compliance Filing to Update Suspended Tariff Records in Docket No. RP24-1035 to be effective 3/1/2025.

Filed Date: 2/28/25.

Accession Number: 20250228-5093.

Comment Date: 5 p.m. ET 3/12/25.

Docket Numbers: RP24-1047-002.

Applicants: Transwestern Pipeline Company, LLC.

Description: Compliance filing: Compliance Filing—Docket No. RP24-1047-001 to be effective 4/1/2025.

Filed Date: 2/28/25.

Accession Number: 20250228-5073.

Comment Date: 5 p.m. ET 3/12/25.

Any person desiring to protest in any the above proceedings must file in accordance with Rule 211 of the Commission's Regulations (18 CFR 385.211) on or before 5 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 3, 2025.
Carlos D. Clay,
Deputy Secretary.

[FR Doc. 2025-03684 Filed 3-6-25; 8:45 am]

BILLING CODE 6717-01-P